DEPARTMENT OF COMMERCE

National Oceanic and Atmospheric Administration

[RTID 0648-XC923]

Marine Mammals and Endangered Species

AGENCY: National Marine Fisheries Service (NMFS), National Oceanic and Atmospheric Administration (NOAA), Commerce.

ACTION: Notice; issuance of permits and permit amendments.

SUMMARY: Notice is hereby given that permits and permit amendments have been issued to the following entities under the Marine Mammal Protection Act (MMPA) and the Endangered Species Act (ESA), as applicable.

ADDRESSES: The permits and related documents are available for review upon written request via email to NMFS.Pr1Comments@noaa.gov.

FOR FURTHER INFORMATION CONTACT: Carrie Hubard (Permit No. 26593), Jennifer Skidmore (Permit Nos. 21419, 26689, 26716, and 27102), Shasta McClenahan, Ph.D. (Permit Nos. 26622 and 27049), Amy Hapeman (Permit No. 22156-03), and Courtney Smith, Ph.D. (Permit No. 21059); at (301) 427-8401.

SUPPLEMENTARY INFORMATION: Notices were published in the Federal Register on the dates listed below that requests for a permit or permit amendment had been submitted by the below-named applicants. To locate the Federal Register notice that announced our receipt of the application and a complete description of the activities, go to https://www.federalregister.gov and search on the permit number provided in table 1 below.

Table 1—Issued Permits and Permit Amendments
Permit No. | RTID | Applicant | Previous Federal Register notice | Issuance date
21059-01 | 0648-XF378 | Philip N. Hooge, Ph.D., Glacier Bay National Park and Preserve, P.O. Box 140, Gustavus, AK 99826 | 83 FR 17655, April 23, 2018 | March 29, 2023.
21419-01 | 0648-XG029 | Shannon Atkinson, Ph.D., University of Alaska Fairbanks, 17101 Point Lena Loop Road, Juneau, AK 99801 | 83 FR 21765, May 10, 2018 | March 8, 2023.
22156-03 | 0648-XC712 | Douglas Nowacek, Ph.D., Nicholas School of the Environment, Duke University Marine Laboratory, 135 Duke Marine Lab Road, Beaufort, NC 28516 | 88 FR 4156, January 24, 2023 | March 15, 2023.
26593 | 0648-XC409 | Adam A. Pack, Ph.D., University of Hawaii at Hilo, 200 West Kawili Street, Hilo, HI 96720 | 87 FR 59063, September 29, 2022 | March 13, 2023.
26622 | 0648-XC250 | Randall Wells, Ph.D., Chicago Zoological Society's Sarasota Dolphin Research Program, c/o Mote Marine Laboratory, 1600 Ken Thompson Parkway, Sarasota, FL 34236 | 87 FR 48157, August 8, 2022 | March 9, 2023.
26689 | 0648-XC425 | Elsie Sunderland, Ph.D., Harvard University, 29 Oxford Street, Pierce Hall No. 127, Cambridge, MA 02138 | 87 FR 60125, October 4, 2022 | March 30, 2023.
26716 | 0648-XC455 | Kathleen Hunt, Ph.D., George Mason University, Department of Biology, 8936 Center Street, Manassas, VA 20110 | 87 FR 66162, November 2, 2022 | March 31, 2023.
27049 | 0648-XC753 | Cristy Rocio Gonzalez Barrientos, D.V.M., Texas A&M University, 2711 Wilderness Drive North, College Station, TX 77845 | 88 FR 9254, February 13, 2023 | March 28, 2023.
27102 | 0648-XC721 | Institute for Marine Sciences, 115 McAllister Way, Ocean Health Building, Santa Cruz, CA 95060 (Responsible Party: Logan Pallin, Ph.D.) | 88 FR 7688, February 6, 2023 | March 27, 2023.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) were applied for in good faith; (2) will not operate to the disadvantage of such endangered species; and (3) are consistent with the purposes and policies set forth in Section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: April 12, 2023.
Julia M. Harrison,
Chief, Permits and Conservation Division, Office of Protected Resources, National Marine Fisheries Service.

[FR Doc. 2023-08031 Filed 4-14-23; 8:45 am]

BILLING CODE 3510-22-P